DEPARTMENT OF HEALTH AND HUMAN SERVICES

Centers for Disease Control and Prevention

Strengthening and Expanding Anti-retroviral Treatment in the Republic of Haiti to HIV/AIDS Infected Populations Through Training, Support and Quality Assurance/Quality Control at Anti-retroviral Sites as Part of the President's Emergency Plan for AIDS Relief

Announcement Type: New.

Funding Opportunity Number: CDC-RFA-AA177.

Catalog of Federal Domestic Assistance Number: 93.067.

Key Dates: Application Deadline: September 19, 2005.

I. Funding Opportunity Description

Authority: This program is authorized under Sections 301(a) and 307) of the Public Health Service Act, [42 U.S.C. Sections 241 and 2421], as amended and under Public Law 108-25 (United States Leadership Against HIV/AIDS, Tuberculosis and Malaria Act of 2003) [22 U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

Over the same time period, as part of a collective national response, the Emergency Plan goals specific to Haiti are to treat at least 25,000 HIV-infected individuals; care for 125,000 HIV-affected individuals, including orphans.

Purpose: An essential element of preventing new cases of HIV in Haiti is to ensure as much of the population as possible has adequate access to screening, treatment, and care facilities. Haiti's HIV prevalence rate in adults is reported to be 5.6 percent, according to the 2004 Annual Report of the Joint United Programme on HIV/AIDS (UNAIDS). Access to prevention and treatment is limited among the Haitian population because of an underdeveloped public health infrastructure and a lack of clinical capacity.

Currently, around 3,000 Haitians infected with HIV receive ARV therapy. However, with funding from the President's Emergency Plan for AIDS Relief, the U.S. Government aims to increase that number dramatically to 7,200 by the end of 2005. To meet the Emergency Plan's goals within the time allotted, applicants must be able to demonstrate they already have experience in training clinicians and laboratory personnel involved in VCT activities, distributing ARVs and in providing palliative care to patients with HIV/AIDS in Haiti.

Under the leadership of the U.S. Global AIDS Coordinator, as part of the President's Emergency Plan, the U.S. Department of Health and Human Services (HHS) works with host countries and other key partners to assess the needs of each country and design a customized program of assistance that fits within the host nation's strategic plan.

HHS focuses on two or three major program areas in each country. Goals and priorities include the following:

• Achieving primary prevention of HIV infection through activities such as expanding confidential counseling and testing programs, building programs to reduce mother-to-child transmission, and strengthening programs to reduce transmission via blood transfusion and medical injections.

• Improving the care and treatment of HIV/AIDS, sexually transmitted diseases (STDs) and related opportunistic infections by improving STD management; enhancing care and treatment of opportunistic infections, including tuberculosis (TB); and initiating programs to provide anti-retroviral therapy (ART).

• Strengthening the capacity of countries to collect and use surveillance data and manage national HIV/AIDS programs by expanding HIV/STD/TB surveillance programs and strengthening laboratory support for surveillance, diagnosis, treatment, disease-monitoring and HIV screening for blood safety.

Measurable outcomes of the program will be in alignment with the numerical goals of the President's Emergency Plan for AIDS Relief and with one (or more) of the following performance goal(s) for the National Center for HIV, STD and TB Prevention (NCHSTP), of the Centers for Disease Control and Prevention (CDC) within HHS: Increase the proportion of HIV-infected people who are linked to appropriate prevention, care and treatment services, and strengthen the capacity nationwide to monitor the epidemic, develop and implement effective HIV prevention interventions and evaluate prevention programs.

This announcement is only for non-research activities supported by HHS, including CDC. If an applicant proposes research activities, HHS will not review the application. For the definition of “research,” please see the HHS/CDC web site at the following Internet address: http://www.cdc.gov/od/ads/opspoll1.htm.

Activities: The recipient of these funds is responsible for activities in multiple program areas designed to target underserved populations in Haiti. Either the awardee will implement activities directly or will implement them through its subgrantees and/or subcontractors; the awardee will retain overall financial and programmatic management under the oversight of HHS/CDC and the strategic direction of the Office of the U.S. Global AIDS Coordinator. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The grantee will produce an annual operational plan in the context of this four-year plan, which the U.S. Government Emergency Plan team on the ground in Haiti will review as part of the annual Emergency Plan for AIDS Relief Country Operational Plan review and approval process managed by the Office of the U.S. Global AIDS Coordinator. The grantee may work on some of the activities listed below in the first year and in subsequent years, and then progressively add others from the list to achieve all of the Emergency Plan performance goals, as cited in the previous section. HHS/CDC, under the guidance of the U.S. Global AIDS Coordinator, will approve funds for activities on an annual basis, based on documented performance toward achieving Emergency Plan goals, as part of the annual Emergency Plan for AIDS Relief Country Operational Plan review and approval process.

Awardee activities for covering all program areas are as follows:

1. Perform routine quality assurance and quality control (QA/QC) on rapid testing specimens from all sites supported by the Emergency Plan until the Haitian national reference lab is operational.

2. Perform confirmational CD4 testing and analysis to determine clinical eligibility for expansion sites without capacity to conduct such testing.

3. Perform conformational sexually transmitted infection (STI) testing for diagnosis.

4. Provide training in local languages to local health care professionals including physicians, nurses, lab technicians and pharmacy technicians, community health workers, volunteers and appropriate program staff on the following:

a. How to design, implement and evaluate confidential voluntary counseling and testing (VCT) program sites to enable them to provide confidential counseling and rapid testing for HIV/AIDS;

b. The provision of psycho-social support by social workers to people living with HIV/AIDS (PLWHAs) and their families, including bereavement counseling, crisis management, support for orphan and vulnerable children;

c. Clinical care and treatment of HIV/AIDS/TB, opportunistic infection(OI) and highly active anti-retroviral therapy (HAART); including basic and palliative care;

d. Care for PLWHAs, including counseling PLWHAs engaged in treatment and drug administration, especially for nurses and community health workers;

e. Drug-supply management, forecasting, and packaging (especially for pharmacists);

f. The use of automated laboratory equipment for hematology, biochemistry and biology (especially for lab technicians),

g. How to maintain laboratory equipment;

h. Laboratory safety and proper disposal of biohazardous materials;

i. The use of universal precautions and the management of needle-stick or splash injuries;

j. Post-training follow-up to identify gaps in resources or effectiveness of particular protocols; and

k. Regular routine, in-service trainings in local languages for health service and lab personnel to review new and best practice techniques and solicit “insider insight”—an account of implementation success and challenges.

5. Implement monitoring and evaluation strategies at each program site, by assessing:

a. Number of trainings held;

b. Number and type of participants;

c. Pre- and post-training evaluation of skills; and

d. Number of equipment maintenance calls.

Based on its competitive advantage and proven field experience, the winning applicant will undertake a broad range of activities to meet the numerical Emergency Plan targets outlined in this announcement.

Administration

The winning applicant must comply with all HHS management requirements for meeting participation and progress and financial reporting for this cooperative agreement (See HHS Activities and Reporting sections below for details), and comply with all policy directives established by the Office of the U.S. Global AIDS Coordinator.

In a cooperative agreement, HHS staff is substantially involved in the program activities, above and beyond routine grant monitoring.

HHS Activities for this program are as follows:

1. Organize an orientation meeting with the grantee to brief it on applicable U.S. Government, HHS, and Emergency Plan expectations, regulations and key management requirements, as well as report formats and contents. The orientation could include meetings with staff from HHS agencies and the Office of the U.S. Global AIDS Coordinator.

2. Review and approve the process used by the grantee to select key personnel and/or post-award subcontractors and/or subgrantees to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet on a monthly basis with grantee to assess monthly expenditures in relation to approved work plan and modify plans as necessary.

6. Meet on a quarterly basis with grantee to assess quarterly technical and financial progress reports and modify plans as necessary.

7. Meet on an annual basis with grantee to review annual progress report for each U.S. Government Fiscal Year, and to review annual work plans and budgets for subsequent year, as part of the Emergency Plan for AIDS Relief review and approval process for Country Operational Plans, managed by the Office of the U.S. Global AIDS Coordinator.

8. Provide technical assistance, as mutually agreed upon, and revise annually during validation of the first and subsequent annual work plans. This could include expert technical assistance and targeted training activities in specialized areas, such as strategic information, project management, confidential counseling and testing, palliative care, treatment literacy, and adult learning techniques.

9. Provide in-country administrative support to help grantee meet U.S. Government financial and reporting requirements.

10. Collaborate with the Haitian Ministry of Health (MSPP) and partners to strengthen confidential VCT/prevention of mother-to-child transmission (PMTCT) sites, specialized care and treatment sites and public anti-retroviral (ARV) demonstration sites.

11. Provide equipment and commodities acquired through a transparent and competitive process (excluding ARV drugs) to all VCT/PMTCT sites and public demonstration sites. HHS/CDC will provide ARV drugs to public demonstration sites only.

12. Hire and support of staff.

13. Support for an electronic medical record (EMR) database system, and a surveillance database system for case identification and management.

14. Support for the annual technical review of the National AIDS/TB/STI program in Haiti.

Please note: Either HHS staff or staff from organizations that have successfully competed for funding under a separate HHS contract, cooperative agreement or grant will provide technical assistance and training.

II. Award Information

Type of Award: Cooperative Agreement. HHS involvement in this program is listed in the Activities Section above.

Fiscal Year Funds: 2005.

Approximate Total Funding: $4,615,000 (This amount is an estimate, and is subject to availability of funds.)

Approximate Number of Awards: One.

Approximate Average Award: $923,000 (This amount is for the first 12-month budget period, and includes direct costs.)

Floor of Award Range: None.

Ceiling of Award Range: $923,000.

Anticipated Award Date: September 23, 2005.

Budget Period Length: 12 months.

Project Period Length: Five years.

Throughout the project period, HHS' commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible Applicants

Public and private non-profit and for-profit organizations may submit applications, such as:

• Public, non-profit organizations

• Private, non-profit organizations

• For-profit organizations

• Small, minority-owned, and women-owned businesses

• Colleges

• Universities

• Hospitals

• Community-based organizations

• Faith-based organizations

In addition, applicants must meet the criteria listed below:

1. Documented experience providing care and treatment in resource constrained, politically unstable countries;

2. Experience in performing extensive HIV/AIDS laboratory diagnostic testing and training;

3. Have documented experience in HIV/AIDS particularly in the provision of basic social services for HIV-infected/affected persons, must have experience with non-facility-based counseling, and must already be integrated into the national HIV/AIDS program; and

4. Documented experience working with populations engaged in high-risk behaviors.¹

¹ Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing abstinence and faithfulness behavior-change interventions.

Eligible applicants should also demonstrate a current or past capacity to coordinate their activities with HHS/CDC and other members of the United States Government.

III.2. Cost-Sharing or Matching Funds

Matching funds are not required for this program. Although matching funds are not required, preference will go to organizations that can leverage additional funds to contribute to program goals.

III.3. Other

If applicants request a funding amount greater than the ceiling of the award range, HHS/CDC will consider the application non-responsive, and it will not enter into the review process. We will notify you that your application did not meet the submission requirements.

Special Requirements

If your application is incomplete or non-responsive to the special requirements listed in this section, it will not enter into the review process. We will notify you that your application did not meet submission requirements.

• HHS/CDC will consider late applications non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

HHS strongly encourages you to submit your application electronically by using the forms and instructions posted for this announcement at www.grants.gov.

Application forms and instructions are available on the HHS/CDC web site, at the following Internet address: www.cdc.gov/od/pgo/forminfo.htm.

If you do not have access to the Internet, or if you have difficulty accessing the forms on-line, you may contact the HHS/CDC Procurement and Grants Office Technical Information Management Section (PGO-TIM) staff at: 770-488-2700. We can mail application forms to you.

IV.2. Content and Form of Submission

Application: You must submit a project narrative with your application forms. You must submit the narrative in the following format:

• Maximum number of pages: 30. If your narrative exceeds the page limit, we will only review the first pages within the page limit

• Font size: 12 point unreduced

• Double-spaced

• Paper size: 8.5 by 11 inches

• Page margin size: One inch

• Printed only on one side of page

• Held together only by rubber bands or metal clips; not bound in any other way.

• Submitted in English

Your narrative should address activities to be conducted over the entire project period, and must include the following items in the order listed:

• Project Contribution to the numerical Goals and Objectives of the President's Emergency Plan for AIDS Relief

• Timeline (e.g., GANNT Chart)

• Management of Project Funds and Reporting

• Executive Summary: Provide a clear and concise summary of the proposed goals, major objectives and activities required for achievement of program goals and amount of funding requested for budget year one of this cooperative agreement.

• Laboratory Services

1. Perform routine QA/QC on rapid-testing specimens from all sites supported by the Emergency Plan for AIDS Relief until the national reference lab is operational.

2. Perform confirmational CD4 testing and analysis to determine clinical eligibility of patients for ART at expansion sites that lack the capacity to conduct such testing.

3. Perform confirmational STI testing for diagnosis.

• Training

1. Provide training in local languages to local health care professionals including physicians, nurses, lab technicians and pharmacy technicians, community health workers volunteers and appropriate program staff.

a. Train how to design, implement and evaluate confidential VCT program sites to enable them to provide counseling and rapid testing for HIV/AIDS.

b. Train social workers in providing psycho-social support to PLWHA and their families, including bereavement counseling, crisis management, and support for orphan and vulnerable children.

c. Train health care professionals, in clinical care and treatment of HIV/AIDS/TB, OI and HAART including basic and palliative care.

d. Train nurses and community health workers in care for PLWHAs, including counseling PLWHAs engaged in treatment and drug administration.

e. Train pharmacists in drug-supply commodity management, forecasting, and packaging.

f. Train lab technicians in use of automated laboratory equipment for hematology, biochemistry, biology.

g. Train how to maintain laboratory equipment.

h. Train in laboratory safety and proper disposal of bio-hazardous materials protocol.

i. Train in the use of universal precautions and the management of needle-stick or splash injuries.

j. Provide post-training follow-up to identify gaps in resources or effectiveness of particular protocols.

k. Provide regular routine in-service trainings in local languages for health service and lab personnel to review new and best practice techniques and solicit “insider insight”—an account of implementation success and challenges.

2. Implement monitoring and evaluation strategies at each program site, assessing:

a. Number of trainings held

b. Number and type of participants

c. Pre- and post-training skill levels

d. Number of equipment maintenance calls.

You may include additional information in the application appendices. The appendices will not count toward the narrative page limit. This additional information includes the following:

• Curricula Vitae or Resumes of current staff who will work on the activity

• Organizational Charts

• Letters of Support

• Project Budget and Justification for year one only

The budget justification will not count in the narrative page limit.

Although the narrative addresses activities for the entire project, the applicant should provide a detailed budget only for the first year of activities, while addressing budgetary plans for subsequent years.

You must have a Dun and Bradstreet Data Universal Numbering System (DUNS) number to apply for a grant or cooperative agreement from the Federal Government. The DUNS number is a nine-digit identification number, which uniquely identifies business entities. Obtaining a DUNS number is easy, and there is no charge. To obtain a DUNS number, access www.dunandbradstreet.com or call 1-866-705-5711.

For more information, see the HHS/CDC Web site at: http://www.cdc.gov/od/pgo/funding/pubcommt.htm.

If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 19, 2005.

Explanation of Deadlines: Applications must be received in the HHS/CDC Procurement and Grants Office by 4 p.m. Eastern Time on the deadline date.

You may submit your application electronically at www.grants.gov. We consider applications completed online through Grants.gov as formally submitted when the applicant organization's Authorizing Official electronically submits the application to www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure the carrier will be able to guarantee delivery by the closing date and time. If HHS/CDC receives your submission after closing because: (1) Carrier error, when the carrier accepted the package with a guarantee for delivery by the closing date and time, or (2) significant weather delays or natural disasters, you will have the opportunity to submit documentation of the carriers guarantee. If the documentation verifies a carrier problem, HHS/CDC will consider the submission as received by the deadline.

If you submit a hard copy application, HHS/CDC will not notify you upon receipt of your submission. If you have a question about the receipt of your application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Funds may be spent for reasonable program purposes, including personnel, travel, supplies, and services. Equipment may be purchased if deemed necessary to accomplish program objectives, however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut and the World Health Organization, Indirect Costs will not be paid (either directly or through sub-award) to organizations located outside the territorial limits of the United States or to international organizations, regardless of their location.

• The applicant may contract with other organizations under this program; however the applicant must perform a substantial portion of the activities (including program management and operations, and delivery of prevention services for which funds are required).

• You must obtain annual audit of these HHS/CDC funds (program-specific audit) by a U.S.-based audit firm with international branches and current licensure/authority in-country, and in accordance with International Accounting Standards or equivalent standard(s) approved in writing by HHS/CDC.

• A fiscal Recipient Capability Assessment may be required, prior to or post award, to review the applicant's business management and fiscal capabilities regarding the handling of U.S. Federal funds.

• Funds received from this announcement will not be used for the purchase of antiretroviral drugs for treatment of established HIV infection (with the exception of nevirapine in PMTCT cases and with prior written approval), occupational exposures, and non-occupational exposures and will not be used for the purchase of machines and reagents to conduct the necessary laboratory monitoring for patient care.

• Needle Exchange—No funds appropriated under this Act shall be used to carry out any program of distributing sterile needles or syringes for the hypodermic injection of any illegal drug.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http//www.cdc.gov/od/pgo/funding/budgetguide.htm.

IV.6. Other Submission Requirements

Application Submission Address

HHS/CDC strongly encourages you to submit electronically at: www.grants.gov. You will be able to download a copy of the application package from www.grants.gov, complete it offline, and then upload and submit the application via the Grants.gov site. We will not accept e-mail submissions. If you are having technical difficulties in Grants.gov, you may reach them by e-mail at support@grants.gov, or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of your application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommended that you submit your grant application by using Microsoft Office products (e.g., Microsoft Word, Microsoft Excel, etc.). If you do not have access to Microsoft Office products, you may submit a PDF file. You may find directions for creating PDF files on the Grants.gov Web site. Use of files other than Microsoft Office or PDF could make your file unreadable for our staff.

OR

Submit the original and two hard copies of your application by mail or express delivery service to the following address: Technical Information Management-AA177, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We will evaluate your application against the following criteria:

1. Need (20 Points)

To what extent does the applicant justify the need for this program within the target community?

2. Work Plan (25 Points)

Does the applicant describe strategies that are pertinent and match those identified in the five-year strategy of the President's Emergency Plan and activities that are evidence-based, realistic, achievable, measurable, and culturally appropriate in Haiti to achieve the goals of the Emergency Plan? Is the plan adequate to carry out the proposed objectives? How complete and comprehensive is the plan for the entire project period? Does the plan include quantitative process and outcome measures?

3. Monitoring Evaluation and Reporting (20 points)

Does the applicant describe a system for reviewing and adjusting program activities based on monitoring information? Does the plan include indicators for each program milestone and incorporated into the quarterly financial and programmatic reports? Are the indicators drawn from the Emergency Plan Indicator Guide? Will the system generate quarterly financial and program reports to show disbursement of funds, and progress towards achieving the program objectives of the President's Emergency Plan for AIDS Relief?

4. Methods (15 Points)

Are the proposed methods feasible? To what extent will they accomplish the numerical goals of the President's Emergency Plan?

5. Personnel (20 Points)

Do the staff members have appropriate experience, including local language skills? Are the staff roles clearly defined? As described, will the staff be sufficient to accomplish the program goals?

6. Budget and Justification (Reviewed, but not scored)

Is the itemized budget for conducting the project, along with justification, reasonable, and consistent with the five-year strategy and goals of the President's Emergency Plan activities in Haiti?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

While U.S.-based organizations are eligible to apply, we will give preference to existing national/Haitian organizations and organizations that have demonstrated working in cultural and political contexts similar to that in Haiti. It is possible for one organization to apply as lead grantee with a plan that includes partnering with other organizations, preferably local. Although matching funds are not required, preference will go to organizations that can leverage additional funds to contribute to program goals.

Applications will be funded in order by score and rank determined by the review panel. HHS/CDC will provide justification for any decision to fund out of rank order.

V.3. Anticipated Announcement and Award Dates

September 23, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-8 Public Health System Reporting Requirements

• AR-10 Smoke-Free Workplace Requirements

• AR-12 Lobbying Restrictions

• AR-14 Accounting System Requirements

• AR-25 Release and Sharing of Data

Applicants can find additional information on these requirements on the HHS/CDC web site at the following Internet address: http://www.cdc.gov/od/pgo/funding/ARs.htm.

VI.3. Reporting Requirements

You must provide HHS/CDC with an original, plus two hard copies of the following reports:

1.a. Semi-annual Progress Report, due not later than six (6) months after the beginning of the budget period. This progress report must contain the following elements:

a. Current Budget Period Activities and Objectives

b. Current Budget Period Financial Progress.

c. Measures of Effectiveness, including progress against the numerical goals of the President's Emergency Plan for AIDS Relief for Haiti.

d. Additional Requested Information.

e. Financial

2. Financial status and annual reports are due within 30 days of the end of the budget period of this agreement. The reports should detail progress toward achieving program milestones and projected next year activities. The financial status report must show obligations, disbursements and funds remaining by program activity for the year. Indicators must be developed for each program milestone and incorporated into the annual financial and programmatic reports. All indicators need to be drawn from the Emergency Plan Indicator Guide.

3. Final financial and performance reports, no more than 90 days after the end of the project period.

Recipients must mail these reports to the Grants Management or listed in the “Agency Contacts” section of this announcement.

VII. Agency Contacts

We encourage inquiries concerning this announcement. For general questions, contact: Technical Information Management Section, CDC Procurement and Grants Office, U.S. Department of Health and Human Services, 2920 Brandywine Road, Atlanta, GA 30341, Telephone: 770-488-2700.

For program technical assistance, contact: Matthew Brown, Project Officer, 3400 Port au Prince Pl., Dulles, VA 20189-3400, Telephone: 1-404-806-9619 or 011-509-222-0200, E-mail: zjc5@cdc.gov.

For financial, grants management, or budget assistance, contact: Vivian Walker, Grants Management Specialist, CDC Procurement and Grants Office, U.S. Department of Health and Human Services, 2920 Brandywine Road, Atlanta, GA 30341, Telephone: 770-488-2724, E-mail: VEW4@CDC.GOV.

VIII. Other Information

Applicants can find this and other HHS funding opportunity announcements on the HHS/CDC Web site, Internet address: www.cdc.gov Click on “Funding” then “Grants and Cooperative Agreements”), and on the Web site of the HHS Office of Global Health Affairs, Internet address: www.globalhealth.gov.

Dated: August 17, 2005.
William P. Nichols,
Director, Procurement and Grants Office, Centers for Disease Control and Prevention, U.S. Department of Health and Human Services.

[FR Doc. 05-16822 Filed 8-23-05; 8:45 am]

BILLING CODE 4163-18-P